DEPARTMENT OF TRANSPORTATION

Federal Railroad Administration

Petition for Special Approval of Alternate Standard

In accordance with §238.21 of title 49 Code of Federal Regulations (CFR), notice is hereby given that the Federal Railroad Administration (FRA) received a request for approval of an Alternate Standard of compliance with certain requirements of its safety standards. The individual petition is described below, including the party seeking relief, the regulatory provisions involved, the nature of the relief being requested, and the petitioner's arguments in favor of relief.

Long Island Rail Road and Metro-North Railroad Special Approval Petition Docket Number FRA-2004-17099

Long Island Rail Road (LIRR) and Metro-North Railroad (MNCW), further identified herein as the railroads seek approval for use of an alternate standard required to be used in accordance with the Passenger Equipment Safety Standards, 49 CFR part 238. Section 309, periodic maintenance of MU locomotive equipment brakes. Section 309(b)(2) requires periodic brake equipment maintenance to be performed at an interval not to exceed every 1,104 days. The railroads are requesting an alternate standard for M7-MU locomotives that would require that periodic brake equipment maintenance be performed at an interval not to exceed every 1,840 days.

The railroads state that the new M7 locomotive air brake equipment is supplied by Knorr Brake Corporation. The air brake system is integrated with the propulsion system, and a full pneumatic back up of the emergency brake application function is available through the emergency brake valve and conductors valve. The M7 utilizes various systems to monitor, diagnose, and report brake equipment functions to a centralized diagnostic system on board the equipment. The railroads submitted required technical documentation, a Preliminary Hazard Analysis, Failure Modes and Effect Analysis, and Maintainability Analysis, and has served a copy of the petition on designated representatives of its employees together with a list of the names and addresses of the persons served. This information is available at the DOT docket site contained in this notice.

Interested parties are invited to participate in these proceedings by submitting written views, data, or comments. Each comment shall set forth specifically the basis upon which it is made and contain a concise statement of the interest of the commenter in the proceeding. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2004-17099) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The statement may also be found at http://dms.dot.gov.

Issued in Washington, DC, on April 27, 2004.
Grady C. Cothen, Jr.,
Deputy Associate Administrator for Safety Standards and Program Development.

[FR Doc. 04-9951 Filed 4-30-04; 8:45 am]

BILLING CODE 4910-06-P